INTERNATIONAL TRADE COMMISSION

[Investigation No. 332-540]

Digital Trade in the U.S. and Global Economies, Part 2; Submission of Questionnaire for OMB Review

AGENCY: United States International Trade Commission.

ACTION: Notice of submission of request for approval of a questionnaire to the Office of Management and Budget. This notice is being given pursuant to the Paperwork Reduction Act of 1995 (44 U.S.C. Chapter 35).

Purpose of Information Collection: The information requested by the questionnaire is for use by the Commission in connection with investigation No. 332-540, Digital Trade in the U.S. and Global Economies, Part 2. The investigation was instituted under section 332(g) of the Tariff Act of 1930 (19 U.S.C. 1332(g)) at the request of the U.S. Senate Committee on Finance. The Commission expects to deliver its report to the Committee by July 14, 2014.

Summary of Proposal

(1) Number of forms submitted: 1.

(2) Title of form: Digital Trade Questionnaire.

(3) Type of request: New.

(4) Frequency of use: Industry questionnaire, single data gathering, scheduled for 2013.

(5) Description of respondents: Companies in the United States in industries that the USITC considers particularly digitally-intensive (i.e. firms that make particularly intensive use of the Internet and Internet technology in their business activities).

(6) Estimated number of questionnaires to be mailed: 10,000.

(7) Estimated total number of hours to complete the questionnaire per respondent: 30 hours.

(8) Information obtained from the questionnaire that qualifies as confidential business information will be so treated by the Commission and not disclosed in a manner that would reveal the individual operations of a firm.

Additional Information or Comment: Copies of the questionnaire and supporting documents may be obtained from project leader James Stamps (james.stamps@usitc.gov or 202-205-3227) or deputy project leader David Coffin (david.coffin@usitc.gov or 202-205-2232). Comments about the proposal should be directed to the Office of Management and Budget, Office of Information and Regulatory Affairs, Room 10102 (Docket Library), Washington, DC 20503, Attention: Docket Librarian. All comments should be specific, indicating which part of the questionnaire is objectionable, describing the concern in detail, and including specific suggested revision or language changes. Copies of any comments should be provided to Andrew Martin, Chief Information Officer, U.S. International Trade Commission, 500 E Street SW., Washington, DC 20436, who is the Commission's designated Senior Official under the Paperwork Reduction Act.

General information concerning the Commission may also be obtained by accessing its Internet address (http://www.usitc.gov). Hearing impaired individuals are advised that information on this matter can be obtained by contacting the TDD terminal on 202-205-1810. Persons with mobility impairments who will need special assistance in gaining access to the Commission should contact the Secretary at 202-205-2000.

By order of the Commission.
Issued: September 12, 2013.
Lisa R. Barton,
Acting Secretary to the Commission.

[FR Doc. 2013-22545 Filed 9-16-13; 8:45 am]

BILLING CODE 7020-02-P